DEPARTMENT OF TRANSPORTATION

Federal Highway Administration

Notice of Withdrawal of the Notice of Intent To Prepare an Environmental Impact Statement (EIS) for the Proposed Sheep Mountain Parkway Multimodal Transportation Project, Clark County, NV

AGENCY: U.S. Federal Highway Administration (FHWA), DOT.

ACTION: Notice of Withdrawal of the Notice of Intent to prepare an EIS for Sheep Mountain Parkway Multimodal Transportation Project, which includes highway, transit, and non-motorized trail components in Clark County, Nevada.

SUMMARY: The FHWA is issuing this notice to advise the public that, effective immediately, the Notice of Intent (NOI) (Federal Register Vol. 72, No. 214; FR Doc. 07-5518) to prepare an EIS for the proposed Sheep Mountain Parkway Transportation Project, which includes highway, transit, and non-motorized trail components in Clark County, Nevada is being withdrawn. The NOI for the EIS was announced on November 6, 2007.

FOR FURTHER INFORMATION CONTACT: For the Federal Highway Administration: Mr. Abdelmoez Abdalla, Environmental Program Manager, Federal Highway Administration, 705 N. Plaza, Suite 220, Carson City, NV 89701, Telephone: 775-687-1231, email: Abdelmoez.Abdalla@fhwa.dot.gov. For the Nevada Department of Transportation: Mr. Steve Cooke, Chief, Environmental Services, Nevada Department of Transportation, 1263 South Stewart Street, Carson City, NV 89712, Telephone: 775-888-7686, email: scooke@dot.state.nv.us.

SUPPLEMENTARY INFORMATION: The FHWA, in cooperation with the Nevada Department of Transportation, the Regional Transportation of Southern Nevada, and the City of Las Vegas (City) will not pursue the development of an EIS for the Sheep Mountain Parkway. The purpose of the proposed project was to accommodate travel demands resulting from existing and planned development in the northern Las Vegas Valley by considering multimodal transportation facilities. Based on a number of external issues affecting the completion of the Sheep Mountain Parkway EIS, the City has decided not to pursue the project as originally envisioned at this time. The City plans to pursue only the western portion of Sheep Mountain Parkway extending from Fort Apache Road to Clark County 215 (CC-215). The City will initiate the National Environmental Policy Act (NEPA) activities with the Bureau of Land Management as the Lead Agency to secure the additionally needed right-of-way.

Issued on August 21, 2012.
Susan Klekar,
Division Administrator, Carson City, Nevada.

[FR Doc. 2012-21190 Filed 8-27-12; 8:45 am]

BILLING CODE 4910-22-P